NUCLEAR REGULATORY COMMISSION

[Docket No. 030-01295]

Notice of Finding of No Significant Impact and Availability of Environmental Assessment for License Amendment of Materials License No. 06-13022-02; University of Connecticut Health Center, Farmington, CT

I. Introduction

The U.S. Nuclear Regulatory Commission (NRC) is considering the issuance of a license amendment to the University of Connecticut Health Center for Materials License No. 06-13022-02, to authorize release of its facility on the Newington Veterans Administration Campus in Newington, Connecticut for unrestricted use and has prepared an Environmental Assessment (EA) in support of this action in accordance with the requirements of 10 CFR Part 51. Based on the EA, the NRC has concluded that a Finding of No Significant Impact (FONSI) is appropriate.

II. EA Summary

The purpose of the proposed action is to allow for the release of the licensee's areas of use within Building No. 5 at the Veterans Administration Medical Center in Newington, Connecticut for unrestricted use. The University of Connecticut Health Center was authorized by NRC from 1970 to use radioactive materials for research and development purposes at the site. On August 7, 2002, the University of Connecticut Health Center requested that NRC release their facilities in Building No. 5 for unrestricted use. The University of Connecticut Health Center has conducted surveys of the facility and determined that the facility meets the license termination criteria in Subpart E of 10 CFR Part 20.

III. Finding of No Significant Impact

The NRC staff has evaluated the University of Connecticut Health Center's request and the results of the surveys, and has prepared the EA (summarized above) in support of the proposed license amendment to release the University of Connecticut Health Center facility in Newington, Connecticut for unrestricted use. On the basis of the EA, the NRC has concluded that the environmental impacts from the proposed action are not expected to be significant and has determined not to prepare an environmental impact statement for the proposed action. As described in the EA, the NRC staff found no significant impacts based on its review of the adequacy of the radiation release criteria and the adequacy of the final status survey to meet NRC's unrestricted release criteria. In reviewing the amendment request the staff also determined that the environmental impacts were enveloped by the generic analysis performed in support of “Radiological Criteria for License Termination” (62 FR 39058).

IV. Further Information

The EA and the documents related to this proposed action, including the application for the license amendment and supporting documentation, are available for inspection at NRC's Public Electronic Reading Room at http://www.nrc.gov/reading-rm/adams.html (ADAMS Accession Nos. ML031960106, ML022320664, ML022320354). These documents are also available for inspection and copying for a fee at the Region I Office, 475 Allendale Road, King of Prussia, PA 19406. Any questions with respect to this action should be referred to Penny Lanzisera, Nuclear Materials Safety Branch 1, Division of Nuclear Materials Safety, Region I, 475 Allendale Road, King of Prussia, Pennsylvania, 19406; telephone (610) 337-5169; fax (610) 337-5269.

Dated at King of Prussia, Pennsylvania, this 15th day of July, 2003.
For the Nuclear Regulatory Commission.
Pamela J. Henderson,
Chief Nuclear Materials Safety Branch 1, Division of Nuclear Materials Safety, Region I.

[FR Doc. 03-18544 Filed 7-21-03; 8:45 am]

BILLING CODE 7590-01-P